DEPARTMENT OF COMMERCE

International Trade Administration

Mission Statement; Middle East Public Health Mission, June 5-10, 2010

AGENCY: International Trade Commission, Department of Commerce.

ACTION: Notice.

Mission Description

The United States Department of Commerce, International Trade Administration, U.S. and Foreign Commercial Service (CS), is organizing a Public Health Trade Mission to Riyadh and Jeddah, Saudi Arabia and Doha, Qatar, from June 5-10, 2010. Led by a senior Department of Commerce official, the mission will focus on two important public health issues: (1) Patient healthcare and (2) water and waste management. The mission will provide an excellent venue for U.S. companies to promote equipment, services, and technologies in a range of public health sectors, including hospital and clinical laboratory equipment; pharmaceuticals; health care technologies; public health education; hospital construction and design; IT software; and waste management including medical waste; incinerators, bio-mass technology, recycling and integrated solid waste management services, water and sewage treatment plants; water desalinization and water distribution.

Commercial Setting

Saudi Arabia and Qatar offer solid business opportunities in this region for the public health sectors. Increasing populations and rapid urbanization in recent years are creating strong demand for healthcare and water and waste management. Authorities are constantly at work meeting growing demands for basic public health concerns.

Both countries are upgrading and expanding hospitals and increasing the focus on healthcare for the population. Public and private sector healthcare systems are seeking a wide range of new equipment, technologies, and solutions. Concurrently, water resources are in critical demand in a region where water tables are decreasing, creating need for more effective water treatment and management. Waste management, from sewage to medical waste, is also a concern as the countries are looking for solutions.

Saudi Arabia and Qatar rely heavily on imports in these key public health sectors. U.S equipment, technology, and know how enjoy an excellent reputation here. Business is done on the basis of contacts and U.S. exporters will need to travel to the region to develop strong working relationships with locally based agents or distributors.

Saudi Arabia

The Saudi economy is growing rapidly. Since 2002, Saudi Arabia has enjoyed budget surpluses every year and the country carried large cash reserves of $452 billion in 2009. Saudi Arabia is the largest free market economy in the region with a nominal GDP expected at $460 billion in 2009.

Medical Equipment and Healthcare Sector

Between now and 2016, the population of Saudi Arabia is expected to grow by more than 20%, from 23 million to 30 million, which, in turn, will create an unprecedented demand for healthcare services. Saudi Arabia remains the Gulf region's largest and most developed market for medical products and services, valued at $13.1 billion. The introduction of compulsory healthcare insurance, the gradually aging population, and greater material wealth along with an upsurge in lifestyle diseases all combine to boost demand for healthcare services.

From 2009 to 2016 health expenditures are expected to increase dramatically, even faster than the 20% rate of population growth. Over the same period, demand for hospital beds is likely to grow from 51,000 to 70,000, demand for physicians is likely to rise from 40,000 to 54,000 and the number of hospitals is likely to rise from 364 to 502. The government allocated $13.9 billion for the healthcare sector in the 2009 budget, 17% more than in 2008. The funds were used to finance 86 new hospitals with 11,750 beds and additional Primary Healthcare Centers (PHC). Government spending on the healthcare sector is expected to grow to over $20 billion by 2016 annually.

Water Resources

Saudi Arabia is the third largest consumer of water per capita in the world, but has limited groundwater to tap. The country has been plagued by shortages in recent years, and with consumption from a rising population and economic growth set to soar. Desalination forms the backbone of the government's water strategy. Some 30 desalination plants have already been built by the state, but these have barely been able to keep pace with rising demand. Building on a master plan drawn up in 2002, the government has committed $6 billion a year to bolster the water sector over the next two decades.

Saudi Arabia's leaky water supply and wastewater pipeline network is also receiving massive investment, mainly through public private partnerships (PPPs). Wastewater treatment management is also being opened up to the private sector in a separate program. Mindful of the expense involved in all this and the need to conserve water, the Saudi Government is working on a number of large projects, primarily in the water and sewage sectors, in an attempt to meet the needs posed by rising population and industrial growth.

Solid Waste Management

Saudi Arabia's rapid industrialization, construction, and urbanization have increased levels of pollution and waste. The Saudi government recognizes the critical demand for waste management solutions, and is investing heavily in solving this problem. The 2008 national budget allocates: (1) $4.5 billion for the municipal services sector, which includes water drainage and waste disposal; and, (2) $7.6 billion for the water, agriculture and infrastructure sector, which includes sanitation services and desalination plants.

The Kingdom's five-year plan for infrastructure and public sector building that ended last year was valued at over $53 billion. Six mega cities are under construction, and hundreds of thousands of housing units are to be constructed. All projects will produce waste requiring the latest in recycling and waste management. Yet, this multi-billion dollar sector continues to be under-developed, and holds substantial business opportunities for American companies.

Qatar

Qatar's economy is growing at an extraordinary rate, presenting U.S. firms with excellent export opportunities. Qatar's robust GDP growth, among the fastest in the world, is mainly attributed to ongoing increases in production and exports of liquefied natural gas (LNG), oil, and petrochemicals products.

Commercial ties between the United States and Qatar have expanded at a rapid pace. Between 2003 and 2008, trade volumes grew by more than 340%, from $738 million to $3.2 billion. Over the same period, U.S. exports increased 580 percent to $2.7 billion, making the United States the largest import partner for Qatar. In 2008, Qatar was the United States' fifth largest export market in the Middle East.

Medical Equipment and Healthcare Sector

Health care is a priority concern for the Qatari leadership. The country is investing billions in developing modern medical facilities to cope with rapid population growth. According to the latest data, Qatar has nine hospitals and 23 health centers. In Qatar, healthcare services are either free or highly subsidized. According to the latest industry data available, government health expenditures account for 14.9 percent of total government expenditures.

Currently, three public hospitals are being built at the $1 billion Hamad Medical City, which in total will provide 1,100 additional beds. The facilities will provide pediatric, trauma and orthopedic care, as well as a nursing home for the elderly and a renal dialysis unit. A 300-bed community hospital is also under construction in Al-Wakrah. The largest healthcare project under way in Qatar is the $2.4 billion Sidra Medical & Research Center at Education City. Due to open in 2012 with infrastructure to house 550 beds, Sidra has been designed as a “five-star” hospital with the long-term vision to become a referral center for patients from across the region. These new facilities will significantly expand Qatar's healthcare system within the next few years.

Water Resources

Over the past decade, Qatar has had one of the fastest growth rates in water usage in the Gulf, at around 16 percent annually. Qatar consumes over 219 million gallons of water per day, 99% of which comes from desalination plants. Qatar's desalination capacity will total 324 million gallons per day in 2010, but water consumption is expected to reach 380 million gallons per day by 2013. As population and industrial growth push needs to high levels, the nation's water authorities are contending with some of the highest per capita water consumption rates in the world.

The Qatar Electricity and Water Company (QEWC) committed $7.5 billion in January 2009 to increase power capacity and to raise water capacity to more than 300 million gallons per day. QEWC is set to implement the largest power generation and water desalination project in Qatar. The project is estimated to cost around $3.85 billion and will have a capacity of 63 million gallons of water per day. In addition, plans are being drawn up for a new 30-50 million gallons per day desalination plant to plug an anticipated water shortfall by 2011-13. Preliminary studies are also being made to determine the best location for further water desalination plants.

Solid Waste Management

Qatar has emerged as a fast developing country with growing environmental problems associated with rapid urbanization and population influx. There is an urgent demand for basic infrastructure to support economic growth, especially for waste management. The annual per capita waste generation rate in Qatar is about 430 kilograms per person, which is relatively high among industrialized country standards.

In addition to its own population growth, the number of travelers to the country is increasing. For example, business travel to the country is expected to grow by 20% over the next five years. Thirteen million passengers pass though the current air terminal each year, while the new airport expects to see 24 million passengers a year. This influx of tourist place even more strains on Qatar's existing capacity to handle solid waste.

Mission Goals

The objective of this trade mission is to introduce U.S. companies to distributors, public and private buying agents and other potential business partners. The mission will focus on identifying opportunities for sales for patient healthcare and water and waste management. The mission will additionally seek to acquaint U.S. companies with the local market environments for public health equipment so as to facilitate their ability to effectively introduce their products to the region.

Mission Scenario

Participants will visit three of the region's key metropolitan centers. The mission will have access to major countrywide markets, as well as central government officials and U.S. Embassy staff for regulatory and business climate briefings.

Riyadh—the capital of Saudi Arabia. Government Ministries and many decisionmakers are based here.

Jeddah—the business capital of Saudi Arabia offers extensive opportunities in the public healthcare sector.

Doha—the capital of Qatar, a Gulf Emirate, offers business-friendly commercial procedures and political stability.

During the trade mission participants will receive: (A) Briefings on public health markets in each city visited; (B) introductions to potential agents/distributors, facility administrators, and purchasing managers through group events; (C) site visits if applicable; (D) one-on-one meetings tailored to each firm's interests; and (E) meetings with local business representatives and government officials, as appropriate.

Proposed Mission Timetable

Day of week | Date | Activity
Friday | June 4; Riyadh | Arrive in Riyadh, Saudi Arabia; Informal dinner and greeting by U.S. Commercial Service staff.
Saturday | June 5; Riyadh | Mission meetings officially start; Breakfast briefing from Riyadh Embassy staff; Group meeting with local U.S. business executives; One-on-one business appointments; Evening business reception.
Sunday | June 6; Riyadh | One-on-one business appointments in Riyadh; Possible site visit—choice of hospital or waste/water treatment facility.
Monday | June 7; Riyadh/Jeddah | Travel to Jeddah as a group in the morning; One-on-one business appointments in Jeddah; Possible site visit; Possible Evening business reception or informal dinner.
Tuesday | June 8; Jeddah/Doha | One-on-one business meetings; Travel to Doha, Qatar as a group in the late afternoon; Informal dinner in Doha.
Wednesday | June 9; Doha | Commercial briefings from Embassy staff; One-on-one business appointments; Group meeting with local U.S. business executives; Evening business reception.
Thursday | June 10; Doha | One-on-one business meetings; Round table discussion with U.S. companies in Qatar; Possible site visit in afternoon visit—choice of hospital or waste/water; treatment facility.

Note: The final schedule and potential site visits will depend on the availability of local government and business officials, specific goals of mission participants, and air travel schedules.

Participation Requirements

All persons interested in participating in the Public Health Trade Mission to Saudi Arabia and Qatar must complete and submit an application package for consideration by the Department of Commerce. All applicants will be evaluated on their ability to meet certain conditions and best satisfy the selection criteria as outlined below. A minimum of 10 and a maximum of 25 companies will be selected to participate in the mission from the applicant pool. U.S. companies already doing business in the Middle East as well as U.S. companies seeking to enter the region for the first time are encouraged to apply.

Fees and Expenses

After a company or trade organization has been selected to participate in the mission, a payment to the Department of Commerce in the form of a participation fee is required. The participation fee will be $4,590 for large firms and $3,550 for a small or medium-sized enterprise (SME) ¹ or small organization, which will cover one representative.² The fee for each additional firm representative (large firm or SME) is $600. Expenses for travel, lodging, most meals, and incidentals will be the responsibility of each mission participant.

¹ An SME is defined as a firm with 500 or fewer employees or that otherwise qualifies as a small business under SBA regulations (see http://www.sba.gov/services/contracting_opportunities/sizestandardstopics/index.html).

² Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, primary market objectives, and goals for participation. If the U.S. Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria for Participation

Selection will be based on the following criteria:

• Suitability of the company's products or services to the Saudi and Qatar markets.

• Applicant's potential for business in Saudi and Qatar, including likelihood of exports resulting from the mission.

• Consistency of the applicant's goals and objectives with the stated scope of the mission (as an example—be in the public health sectors indicated in the mission description).

Referrals from political organizations and any documents containing references to partisan political activities (including political contributions) will be removed from an applicant's submission and not considered during the selection process.

Timeframe for Recruitment and Applications

Mission recruitment will be conducted in an open and public manner, including publication in the Federal Register, posting on the Commerce Department trade mission calendar (http://www.ita.doc.gov/doctm/tmcal.html) and other Internet Web sites, press releases to general and trade media, direct mail, notices by industry trade associations and other multiplier groups, and publicity at industry meetings, symposia, conferences, and trade shows. CS Saudi Arabia and CS Qatar will work in conjunction with Global Trade Programs, which will serve as a key facilitator in establishing strong commercial ties to the U.S. companies in the targeted sectors nationwide.

Recruitment for the mission will begin immediately and conclude no later than Wednesday, March 31, 2010. The U.S. Department of Commerce will review all applications immediately after the deadline. We will inform applicants of selection decisions as soon as possible after March 31, 2010. Applications received after the deadline will be considered only if space and scheduling constraints permit.

Contacts

Ms. Jeanne Townsend, Baltimore U.S. Export Assistance Center, Tel: 410-962-4518, Fax: 410-962-4529, E-mail: jtownsen@mail.doc.gov,

Ms. Lisa C. Huot, U.S. Department of Commerce, Washington, DC 20230, Tel: 202-482-2796, Fax: 202-482-0115, E-Mail: Lisa_Huot@ita.doc.gov.

Sean Timmins,
Global Trade Programs, Commercial Service Trade Missions Program.

[FR Doc. 2010-928 Filed 1-19-10; 8:45 am]

BILLING CODE P